SMALL BUSINESS ADMINISTRATION

[Disaster Declaration #12684 and #12685]

Vermont Disaster Number VT-00020

AGENCY: U.S. Small Business Administration.

ACTION: Amendment 1.

SUMMARY: This is an amendment of the Presidential declaration of a major disaster for Public Assistance Only for the State of Vermont (FEMA-4001-DR), dated 07/08/2011.

Incident: Severe storms and flooding.

Incident Period: 05/26/2011 through 05/27/2011.

Effective Date: 07/25/2011.

Physical Loan Application Deadline Date: 09/06/2011.

Economic Injury (EIDL) Loan Application Deadline Date: 04/09/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Vermont, dated 07/08/2011, is hereby amended to include the following areas as adversely affected by the disaster.

Primary Counties:Essex, Orange, Washington.

All other information in the original declaration remains unchanged.

(Catalog of Federal Domestic Assistance Numbers 59002 and 59008)

James E. Rivera,
Associate Administrator for Disaster Assistance.

[FR Doc. 2011-19452 Filed 8-1-11; 8:45 am]

BILLING CODE 8025-01-P